DEPARTMENT OF THE TREASURY

Internal Revenue Service

26 CFR Parts 1 and 301

[TD 9391]

RIN 1545-BF85

Source Rules Involving U.S. Possessions and Other Conforming Changes; Correction

AGENCY: Internal Revenue Service (IRS), Treasury.

ACTION: Final regulations; correction.

SUMMARY: This document contains corrections to final regulations (TD 9391) that were published in the Federal Register on Wednesday, April 9, 2008 (73 FR 19350) providing rules under section 937(b) of the Internal Revenue Code for determining whether income is derived from sources within a U.S. possession or territory specified in section 937(a)(1) (generally referred to in this preamble as a “territory”) and whether income is effectively connected with the conduct of a trade or business within a territory.

DATES: This correction is effective May 14, 2008, and is applicable on April 9, 2008.

FOR FURTHER INFORMATION CONTACT: J. David Varley, (202) 622-7790 (not a toll-free number).

SUPPLEMENTARY INFORMATION:

Background

The final regulations and removal of temporary regulations that are the subjects of this document are under sections 1, 170A, 861, 871, 876, 881, 884, 901, 931, 932, 933, 934, 935, 937, 957, 1402, 6012, 6038, 6046, 6688, and 7701 of the Internal Revenue Code.

Need for Correction

As published, final regulations (TD 9391) contain errors that may prove to be misleading and are in need of clarification.

Correction of Publication

Accordingly, the publication of the final regulations (TD 9391), which were the subject of FR Doc. 08-1105, is corrected as follows:

1. On page 19350, column 1, in the preamble, under the caption “Dates:”, line 5, the language “1(k), 1.861-3(d), 1.861-8(h), 1.871-1(d),” is corrected to read “1(k), 1.861-3(d), 1.861-8(h), 1.871-1(c),”.

2. On page 19351, column 1, in the preamble, under the paragraph heading “1. General Territory Source Rule”, line 8 of the first paragraph, the language “applying the principles of section 861” is corrected to read “applying the principles of sections 861”.

3. On page 19353, column 1, in the preamble, line 3 from the bottom of the first paragraph of the column, the language “of determining whether income for” is corrected to read “of determining whether income from”.

4. On page 19353, column 2, in the preamble, second line of the column, the language “outside of the territories. Id.” is corrected to read “outside of the territory. Id.”.

5. On page 19355, column 1, in the preamble, under the paragraph heading “B. Guam and the Northern Mariana Islands”, line 2 from the bottom of the paragraph, the language “provisions of the temporary and revised” is corrected to read “provisions of the temporary and proposed”.

6. On page 19356, column 2, in the preamble, under the paragraph heading “E. Application of Subpart F to Bona Fide Residents of a Territory”, line 7 from the bottom of the column, the language “voting of a territory corporation are from” is corrected to read “voting stock of a territory corporation are from”.

LaNita Van Dyke,
Chief, Publications and Regulations Branch, Legal Processing Division, Associate Chief Counsel, (Procedure and Administration).

[FR Doc. E8-10694 Filed 5-13-08; 8:45 am]

BILLING CODE 4830-01-P